GENERAL SERVICES ADMINISTRATION

[Notice-PBS-2012-01; Docket 2012-0002; Sequence 1]

Notice of Availability of the Environmental Assessment for Proposed Federal Building Kansas City, MO

AGENCY: General Services Administration (GSA).

ACTION: Notice of availability.

SUMMARY: This notice announces the availability, and opportunity for public review and comment, of a draft environmental assessment (EA), that analyzes the environmental impacts of constructing and operating a proposed new Downtown Federal Building in Kansas City, Missouri. Through the project, GSA proposes to relocate its current operations from the Bannister Federal Complex in Kansas City, Missouri, and co-locate with other federal tenants at a proposed new Downtown Federal Building. The target property(ies) subject to this proposed action are those within an area bounded by 11th Street on the North, 12th Street on the South, Charlotte Street on the East, and Cherry Street on the West (known as city blocks 99 and 100), and could also include some level of development of 701 E. 12th Street, bounded by 12th Street on the North, 13th Street on the South, Holmes Street on the West and Charlotte Street on the East. City blocks 99 and 100 lie within the downtown East Village development and tax increment financing (TIF) district, on the East-side of downtown, in Missouri's 5th Congressional District. In the EA, GSA discusses impacts that could occur as a result of the construction and operation of the proposed project. GSA also evaluates a “No Action” and other reasonable alternatives to the proposed project, or portions of the project, and considers how to lessen or avoid impacts on the various resource areas.

DATES: Effective date: January 25, 2012.

Comment Date: Interested parties should submit written comments to the Regulatory Secretariat on or before February 24, 2012 to be considered in the formation of the EA.

ADDRESSES: Submit comments identified by “Notice-PBS-2012-01”, by any of the following methods:

• Regulations.gov: http://www.regulations.gov. Submit comments via the Federal eRulemaking portal by inputting “Notice-PBS-2012-01” under the heading “Enter Keyword or ID” and selecting “Search.” Select the link “Submit a Comment” that corresponds with “Notice-PBS-2012-01.” Follow the instructions provided at the “Submit a Comment” screen. Please include your name, company name (if any), and “Notice-PBS-2012-01” on your attached document.

• Fax: (202) 501-4067.

• Mail: General Services Administration, Regulatory Secretariat (MVCB), Attn: Hada Flowers/Notice-PBS-2012-01, 1275 First Street NE., 7th Floor, Washington, DC 20417.

Instructions: Please submit comments only and cite “Notice-PBS-2012-01”, in all correspondence related to this notice. All comments received will be posted without change to http://www.regulations.gov, including any personal and/or business confidential information provided.

Request for copies of the draft EA: Contact Mr. Jeremiah Nelson, General Services Administration, 1500 East Bannister Road, Room 2191 (6PTA), Kansas City, MO 64131 or via email to jeremiah.nelson@gsa.gov. Verbal requests for copies of the draft EA may also be made by calling Jeremiah Nelson at (816) 823-5803. A copy of the EA may also be obtained by visiting the gsa.gov Web site: http://www.gsa.gov/portal/content/211853.

SUPPLEMENTARY INFORMATION:

General: This EA is being prepared pursuant to the National Environmental Policy Act, 42 U.S.C. 4321, (NEPA), and regulations implementing NEPA issued by the Council on Environmental Quality (40 CFR 1500-1508), GSA ADM 1095.1, the GSA PBS NEPA Desk Guide and other applicable regulations and policies. The EA will inform GSA in its decision-making process. Compliance with the National Historic Preservation Act (NHPA), including NHPA Section 106, and other laws and requirements, will be coordinated with this EA process, and government agencies that are affected by the proposed actions or have special expertise will be consulted, whether or not they are cooperating agencies. An independent analysis of the issues will be presented in the EA. The EA will be placed in the public record after the public comment period. GSA will consider all comments on the EA before making a final decision.

Purpose of Notice: The purpose of this notice is to (1) announce the availability of the EA for public comment; (2) invite public participation during the commenting period, and (3) request public comments on the draft EA, including the potential environmental impacts associated with the proposed action.

Further Information on Public Participation and Dates: The public is encouraged to provide GSA with specific comments or concerns about the project. Comments should focus on the potential environmental effects, reasonable alternatives, and measures to avoid or lessen environmental impacts. In addition to the above methods for submission of comments, those interested may also file a paper copy of comments, by regular mail, to Jeremiah Nelson, GSA Region 6 NEPA Coordinator, 1500 E. Bannister Road, Room 2135, Kansas City, Missouri 64131 or verbally offer comments to GSA's Region 6 NEPA Coordinator by calling (816) 823-5803. Again, comments should be sent to GSA on or before February 17, 2012. With any comments, before including address, phone number, email address, or other personal identifying information in your comment, be advised that the entire comment, including personal identifying information, may be made publicly available at any time. While you can ask in your comment to withhold from public review personal identifying information, GSA cannot guarantee that it will be able to do so.

State and local government representatives are asked to notify their constituents of this planned project and encourage them to comment on their areas of concern.

Dated: January 19, 2012.
Kevin D. Rothmier,
Director of Portfolio Management (6PT), U.S. General Services Administration, PBS, Heartland Region.

[FR Doc. 2012-1429 Filed 1-24-12; 8:45 am]

BILLING CODE 6820-CG-P